DEPARTMENT OF AGRICULTURE

Federal Crop Insurance Corporation

Notice of Request for Extension of a Currently Approved Information Collection

AGENCY: Federal Crop Insurance Corporation, USDA.

ACTION: Extension of approval of an information collection; comment request.

SUMMARY: This notice announces a public comment period on the information collection requests (ICRs) associated with crop insurance policies administered by Federal Crop Insurance Corporation (FCIC).

DATES: Written comments on this notice will be accepted until close of business June 4, 2001.

ADDRESSES: Interested persons are invited to submit written comments to the Director, Product Development Division, Federal Crop Insurance Corporation, United States Department of Agriculture (USDA), 6501 Beacon Drive, Kansas City, MO 64133.

FOR FURTHER INFORMATION CONTACT: Dave Clauser, Supervisory Insurance Management Specialist, Research and Development, Product Development Division, Federal Crop Insurance Corporation, at the Kansas City, MO address listed above, telephone (816) 926-7730.

SUPPLEMENTARY INFORMATION: Title: Multiple Peril Crop Insurance.

OMB Number: 0563-0053.

Expiration Date of Approval: April 30, 2001.

Type of Request: Extension of a currently approved information collection.

Abstract: FCIC is renewing the currently approved information collection package number 0563-0053. It is currently up for renewal and extension for three years. FCIC is conducting a thorough review of information collections associated with its crop insurance policies. FCIC is using data elements in this renewal package instead of form standards. The information collected by FCIC allows it to provide an actuarially sound insurance program for producers and increases producers' risk management options. The information is collected by insurance companies reinsured by FCIC, crop insurance agents, and FCIC. The Federal Crop Insurance Corporation requires several data elements to be reported to them. This information comes from the producer applying for crop insurance, the insurance company accepting and issuing crop insurance policies and determining insurance coverage, premiums, the amount of production and loss, and indemnities. This data is used to administer the Federal crop insurance program in accordance with the Federal Crop Insurance Act, as amended.

The collections identified in this notice also provide FCIC with data for establishing new and different types of insurance coverage or crop options to increase insurance protection. Policy provisions and options permit producers to personalize their insurance coverage through written agreements which allow deviations from the written policy. Producer may elect exclusion for hail and fire or high risk land, etc.

Since crops differ significantly, FCIC customizes its required information collections for each crop that it insures. The type and amount of information determined by FCIC as necessary to establish and maintain the crop insurance program must also be reasonable, and FCIC must take into consideration the time and cost to producer, insurance providers, insurance agents, and loss adjusters. FCIC is reviewing the burden calculation in preparation of applying for renewal of OMB approval of its information collections.

We are asking the Office of Management and Budget (OMB) to extend its approval of our use of this information collection activity for an additional 3 years.

The purpose of this notice is to solicit comments from the public concerning this information collection activity. These comments will help us:

(1) Evaluate whether the proposed collection of information is necessary for the proper performance of the functions of the agency, including whether the information has practical utility;

(2) Evaluate the accuracy of the agency's estimate of the burden of the proposed collection of information;

(3) Enhance the quality, utility, and clarity of the information to be collected; and

(4) Minimize the burden of the collection of information on those who are to respond, through use, as appropriate, of automated, electronic, mechanical, and other collection technologies, e.g., permitting electronic submission of responses.

Estimate of burden: The public reporting burden for this collection of information is estimated to average 0.4 hours per response.

Respondents/Affected Entities: Parties affected by the information collection requirements included in this Notice are producers, insurance companies reinsured by FCIC, and insurance agents.

Estimated annual number of respondents: 1,304,390.

Estimated annual number of responses per respondent: 2.6.

Estimated annual number of responses: 3,345,415.

Estimated total annual burden on respondents: 1,194,316.

All responses to this notice will be summarized and included in the request for OMB approval. All comments will also become a matter of public record.

Signed in Washington, D.C., on March 29, 2001.
Phyllis W. Honor,
Acting Manager, Federal Crop Insurance Corporation.

[FR Doc. 01-8417 Filed 4-4-01; 8:45 am]

BILLING CODE 3410-08-P